DEPARTMENT OF TRANSPORTATION

Federal Highway Administration

Environmental Impact Statement: Washington County, Pennsylvania

AGENCY: Federal Highway Administration (FHWA), DOT.

ACTION: Cancellation of the Notice of Intent.

SUMMARY: This notice rescinds the previous Notice of Intent (issued January 13, 1997) to prepare an Environmental Impact Statement for a proposed highway project between Interstate 79 and the Mon/Fayette Expressway, southwest of the city of Pittsburgh.

FOR FURTHER INFORMATION CONTACT: David W. Cough, P.E., Director of Operations, Federal Highway Administration, Pennsylvania Division Office, 228 Walnut Street, Room 508, Harrisburg, PA 17101-1720, Telephone (717) 221-3411—OR—Daryl Kern, Turnpike Liaison Engineer, Pennsylvania Department of Transportation, 400 North Street, Harrisburg, PA 17120, Telephone (717) 787-1085.

SUPPLEMENTARY INFORMATION: The Pennsylvania Turnpike Commission, the project sponsor, has decided to continue project development of project without federal funds or oversight. It is anticipated that the U.S. Army Corps of Engineers will now issue a Notice of Intent as the new federal lead agency.

(Catalog of Federal Domestic Assistance Program Number 20.205, Highway Planning and Construction. The regulations implementing Executive Order 12372 regarding intergovernmental consultation on Federal programs and activities apply to this program)

James A. Cheatham,
FHWA Division Administration Harrisburg, PA.

[FR Doc. 07-4583 Filed 9-14-07; 8:45 am]

BILLING CODE 4910-22-M